ENVIRONMENTAL PROTECTION AGENCY

[OPP-34203I; FRL-6799-7]

Chlorpyrifos; End-Use Products Cancellation Order

AGENCY: Environmental Protection Agency (EPA).

ACTION: Notice.

SUMMARY: This notice announces the use deletions and cancellations as requested by the companies that hold the registrations of pesticide end-use products containing the active ingredient chlorpyrifos and accepted by EPA, pursuant to section 6(f) of the Federal Insecticide, Fungicide, and Rodenticide Act (FIFRA). This order follows up a June 27, 2001, notice of receipt of requests for amendments to delete uses and receipt of requests for registration cancellations. In that notice, EPA indicated that it would issue an order confirming the voluntary use deletions and registration cancellations. Any distribution, sale, or use of canceled chlorpyrifos products is only permitted in accordance with the terms of the existing stocks provisions of this cancellation order.

DATES: The cancellations are effective September 12, 2001.

FOR FURTHER INFORMATION CONTACT: Tom Myers, Special Review and Reregistration Division (7508C), Office of Pesticide Programs, Environmental Protection Agency, 1200 Pennsylvania Ave., NW., Washington, DC 20460, telephone number: (703) 308-8589; fax number: (703) 308-8041; e-mail address: myers.tom@epa.gov.

SUPPLEMENTARY INFORMATION:

I. General Information

A. Does this Action Apply to Me?

This action is directed to the public in general. You may be potentially affected by this action if you manufacture, sell, distribute, or use chlorpyrifos products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about the risk assessment for chlorpyrifos, go to the Home Page for the Office of Pesticide Programs or go directly http://www.epa.gov/pesticides/op/chlorpyrifos.htm.

2. In person. The Agency has established an official record for this action under docket control number OPP-34203F. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

In a memorandum of agreement (“Agreement”) effective June 7, 2000, EPA and the basic manufacturers of the active ingredient chlorpyrifos agreed to several voluntary measures that will reduce the potential exposure to children associated with chlorpyrifos containing products. EPA initiated the negotiations with registrants after finding chlorpyrifos, as currently registered, was an exposure risk especially to children. As a result of the Agreement, registrants that hold the pesticide registrations of end-use products containing chlorpyrifos (who are in large part the customer of these basic manufacturers) have asked EPA to cancel or amend their registrations for these products. Pursuant to section 6(f)(1) of the FIFRA, EPA announced the Agency's receipt of these requests from the registrants on June 27, 2001 (66 FR 34184) (FRL-6780-6). With respect to the registration amendments, the registrants have asked EPA to amend end-use product registrations to delete the following uses: All termite control uses (these will be phased out); all residential uses (except for ant and roach baits in child resistant packaging (CRP) and fire ant mound drenches for public health purposes by licensed applicators and mosquito control for public health purposes by public health agencies); all indoor non-residential uses (except ship holds, industrial plants, manufacturing plants, food processing plants, containerized baits in CRP, and processed wood products treated during the manufacturing process at the manufacturing site or at the mill); all outdoor non-residential sites (except golf courses, road medians, industrial plant sites, fence posts, utility poles, railroad ties, landscape timbers, logs, pallets, wooden containers, poles, posts, processed wood products, manhole covers, underground utility cable conduits, and fire ant mound drenches for public health purposes by licensed applicators and mosquito control for public health purposes by public health agencies). In addition, the companies agreed to limit the maximum chlorpyrifos end-use dilution to 0.5% active ingredient (a.i.) for termiticide uses that will be phased out, limit the maximum label application rate for outdoor non-residential use on golf courses, road medians, and industrial plant sites to 1 lb a.i./per acre, and either classify all new/amended chlorpyrifos products (except baits in CRP) as Restricted Use or package the products in large containers, depending on the formulation type, to ensure that remaining chlorpyrifos products are not available to homeowners. In return, EPA stated that with this Agreement, it had no current intention to initiate any cancellation or suspension proceedings under section 6(b) or 6(c) of FIFRA with respect to the issues addressed in the Agreement.

In the Federal Register notice published on June 27, 2001, EPA published a notice of the Agency's receipt of end-use product amendments and cancellations from registrants that hold the pesticide registrations containing chlorpyrifos (who are in large part the customer of the basic manufacturers). These requests were submitted as a result of the Memorandum of Agreement that was signed on June 7, 2000, between EPA and the basic manufacturers of chlorpyrifos. A copy of the Memorandum of Agreement that was signed on June 7, 2000, is located in OPP docket control number 34203D.

B. Requests for Voluntary Cancellation of End-Use Products

Pursuant to the Agreement and FIFRA section 6(f)(1)(A), several registrants have submitted requests for voluntary cancellation of registrations for their end-use products. The registrations for which cancellations were requested are identified in the following Table 1.

Table 1.—End-Use Product Registration Cancellation Requests
Company | Registration Number | Product
P.F. Harris Manufacturing Company | 3-5 | Formula BF-101 (Roach and Ant Killer)
Bonide Products, Inc. | 4-207 4-308 4-319 4-320 4-364 4-421 | Bonide Dursban 5 Lawn Insect Control Granules Bonide Home Pest Control Bonide Home Pest Control Concentrate Bonide Termite and Carpenter Ant Control Pyrenone Dursban Roach and Ant Spray Dursban
Dexol, a Division of Verdant Brands, Inc. | 192-207 | Dexol Pest Free Insect Killer
Prentiss Incorporated | 655-696 655-792 655-793 | Prentox Pyrifos 0.50 RTU Prentox D + 2 Insecticide Prentox Super Brand D + 2 Insecticide
Lebanon Seaboard Corporation | 961-261 961-275 961-326 | Greenskeeper Chinch Bug Control Lebanon Lawn Food 19-4-4 w/Insect and Grub Control Agrico Country Club Insect Control
NCH Corporation | 1769-281 1769-330 | Trail-Blazer Dichloran L.O.
Wellmark International | 2724-471 | Methoprene/Chlorpyrifos Combination Collar for Dogs
Happy Jack, Inc. | 2781-20 2781-35 2781-47 | Happy Jack Tri-Plex Flea and Mange Collar Happy Jack 3x Flea, Tick and Mange Collar for Cats Sardex
PIC Corporation | 3095-46 3095-54 3095-64 | PIC Roach, Ant and Spider Killer #2 PIC Pest Control PIC Roach Control III
Combe, Incorporated | 4306-16 | Sulfodene Scratchex Flea and Tick Collar for Cats
J.C. Ehrlich Chemical Company, Inc. | 4704-41 | Roach and Ant Killer #2
Hub States, LLC | 5602-204 | Hub States Residual Crack/Crevice
Voluntary Purchasing Group | 7401-293 7401-294 7401-296 7401-313 7401-314 7401-347 7401-350 7401-364 7401-371 7401-416 7401-417 7401-419 7401-423 7401-448 | Hi-Yield Special Kill-A-Bug Lawn Granules Hi-Yield Dursban Spray Hi-Yield Mole Cricket Bait Containing Dursban Ferti-Lome Spider Spray Ferti-Lome Flea and Tick Spray Hi-Yield Dursban Garden Dust Hi-Yield Borer Killer Containing Dursban Ferti-Lome Fire Ant Killer Improved Ferti-lome Cricket and Grasshopper Bait Hi-Yield Termite and Soil Insect Killer Hi-Yield Ready to Use Flea and Tick Killer Hi-Yield Mole Cricket Killer Hi-Yield Kill-A-Bug Lawn Granules Dursban-1E Insect Control
Spectrum Group, Division of United Industries Corp. | 8845-21 8845-30 8845-31 | Rid-A-Bug Home Insect Killer Brand AZ5 Rid-A-Bug Concentrate Brand DD7-2 Home Insect Killer Rid-A-Bug Flea and Tick Brand TF-5 Killer
Theochem Laboratories, Inc. | 9367-29 | Aqua-Sect Water Base Insecticide
Waterbury Companies Inc. | 9444-90 9444-93 9444-103 | CB Aqueous Crack and Crevice Insecticide Dursban Crack and Crevice Insecticide CB Flea and Tick Spray
Chemisco, Division of United Industries Corp. | 9688-42 9688-47 9688-62 9688-75 9688-88 9688-95 9688-96 | Chemisco Ant and Roach Killer A Ant and Roach Killer IV Chemisco Wasp and Hornet Killer IV Chemisco Microencapsulated Ant and Roach Killer Chemisco Lawn and Garden Granules Chemisco Insect Control Concentrate A Chemisco Insect Control Concentrate B
Lesco, Inc. | 10404-30 | Lesco Lawn and Ornamental 4.E Plant Insecticide
Hi-Yield Chemical Company | 34911-12 34911-17 34911-18 | Hi-Yield Kill-A-Bug Lawn Granules Hi-Yield Kill-A-Bug Hi-Yield Fire Ant Killer
St. Jon Laboratories, Inc. | 45087-40 | Zema 11 Month Collar for Dogs
Celex, Division of United Industries Corp. | 46515-13 46515-51 | Super K-Gro Home Pest Insect Control Dursban Insect Spray
Chem-Tech, Ltd. | 47000-60 | Household Insecticide (with Dursban)
Alljack, Division of United Industries Corp. | 49585-16 49585-17 49585-18 | Super K Gro Dursban ½ G Granular Insecticide Super K Gro Dursban Grub and Insect Control Super K Gro Mole Cricket Bait
PM Resources, Inc. | 67517-28 | Roach and Ant Insecticide
Black Flag | 69421-31 69421-54 | Black Flag Roach Control System Black Flag Liquid Roach and Ant Killer
Health and Environmental Horizons, Ltd. | 71076-1 | The Sprinklelizer System
OMS Investments, Inc. | 71949-1 71949-4 71949-5 71949-6 71949-7 71949-8 71949-9 | Ford's Dursban ½ G Ford's Lawn Granules Ford's Roach Bait Ford's Dursban 2.5% G Granular Insecticide Ford's Aquakill Plus Roach Spray Ford's Marine Control Multi Purpose Insecticide Ford's Dursban 1% Dust Insecticide

In the June 27, 2001 Federal Register notice, EPA requested public comment on the voluntary cancellation and use deletion requests, and provided a 30-day comment period. The registrants requested that the Administrator waive the 180-day comment period provided under FIFRA section 6(f)(1)(C).

Three public comments were submitted to the docket in response to EPA's request for comments. Two of these comments focused on the continued use of chlorpyrifos in ant and roach baits in child resistant packaging and the third comment focused on the potential effects of exposure to chlorpyrifos.

C. Requests for Voluntary Amendments to Delete Uses From the Registrations of End-Use Products

Pursuant to section 6(f)(1)(A) of FIFRA, several registrants have also submitted requests to amend their end-use registrations of pesticide products containing chlorpyrifos to delete the aforementioned uses. The registrations for which amendments to delete uses were requested are identified in the following Table 2.

Table 2.—End-Use Product Registration Amendment Requests
Company | Registration Number | Product
Riverdale Chemical Company | 228-161 | Riverdale Grub Out Plus Fertilizer
Hub States, LLC | 5602-97 5602-151 | Di-Tox E Di-Tox Plus
Clark Mosquito Control | 8329-26 8329-29 | Dursban ½ G Dursban 1% G
Knox Fertilizer Company, Inc. | 8378-42 8378-43 8378-44 8378-46 | Dursban 70 with Plant Food Shaw's Dursban 50 with Plant Food Shaw's Dursban 60 with Plant Food Shaw's Dursban 100 Granules
Waterbury Companies, Inc. | 9444-184 9444-202 | CB Strikeforce I Residual With Dursban Strikeforce II Residual with Dursban
Athea Laboratories, Inc. | 10088-84 10088-85 10088-94 | Residual Insecticide Surface Insecticide Banish Residual Insect Spray
Howard Fertilizer Company, Inc | 35512-27 35512-36 | Turf Pride Fertilizer with Dursban Turf Pride with 0.67% Dursban
Harrell's Inc. | 52287-5 | 0.4% Chlorpyrifos Plus Fertilizer
Troy E. Fox and Mariene R. Fox | 55773-1 | Score Roach Bait

In the June 27, 2001, Federal Register notice, EPA requested public comment on the voluntary cancellation and use deletion requests, and provided a 30-day comment period. The registrants requested that the Administrator waive the 180-day comment period provided under FIFRA section 6(f)(1)(C).

III. Cancellation Order

Pursuant to section 6(f) of FIFRA, EPA is approving the requested use deletions and the requested registration cancellations. Accordingly, the Agency orders that the registrations identified in Table 2 are hereby amended to delete the following uses: All post-construction termite control uses, except spot and local treatment (use of such products for spot and local treatment will be prohibited after December 31, 2002 by product labeling); all other termite control uses, effective December 31, 2004 (unless EPA has made a decision prior to that date that preconstruction use may continue); all residential uses (except for ant and roach baits in CRP and fire ant mound drenches for public health purposes by licensed applicators and mosquito control for public health purposes by public health agencies); all indoor non-residential, non-agricultural uses (except ship holds, industrial plants, manufacturing plants, food processing plants, containerized baits in CRP, and processed wood products treated during the manufacturing process at the manufacturing site or at the mill); all outdoor non-residential, non-agricultural sites (except golf courses, road medians, industrial plant sites, fence posts, utility poles, railroad ties, landscape timbers, logs, pallets, wooden containers, poles, posts, processed wood products, manhole covers, and underground utility cable and conduits; and fire ant mound drenches for public health purposes by licensed applicators and mosquito control for public health purposes by public health agencies). The Agency also orders that the registrations identified in Table 1 are hereby canceled. Any distribution, sale, or use of existing stocks of the products identified in Tables 1 and 2 in a manner inconsistent with the terms of this Order or the Existing Stock Provisions in Unit IV of this Federal Register notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation.

1. Distribution or sale by registrants of products bearing other uses.

(i) Restricted use and package size limitations. Except for the purposes of returns for relabeling consistent with the June 7, 2000 Memorandum of Agreement, shipping for export consistent with the requirements of section 17 of FIFRA, or proper disposal:

(a) The distribution or sale by registrants of existing stocks of any EC formulation product listed in Table 1 or 2 will not be lawful under FIFRA after September 12, 2001, unless the product is labeled as restricted use.

(b) The distribution or sale by registrants of existing stocks of any product listed in Table 1 or 2 labeled for any agricultural use and that is not an EC, will not be lawful under FIFRA after September 12, 2001, unless the product is either labeled for restricted use or packaged in containers no smaller than 15 gallons of a liquid formulation, 50 pounds of a granular formulation, or 25 pounds of any other dry formulation.

(c) The distribution or sale by registrants of existing stocks of any product listed in Table 1 or 2 labeled solely for non-agricultural uses (other than containerized baits in CRP) and that is not an EC, will not be lawful under FIFRA after September 12, 2001, unless the product is either labeled for restricted use or packaged in containers no smaller than 15 gallons of a liquid formulation or 25 pounds of a dry formulation.

(ii) Prohibited uses. Except for the purposes of returns for relabeling consistent with the June 7, 2000 Memorandum of Agreement, shipping for export consistent with the requirements of section 17 of FIFRA, or proper disposal, the distribution or sale of existing stocks by registrants of any product identified in Table 1 or 2 that bears instructions for any of the following uses will not be lawful under FIFRA after February 1, 2001:

(a) Termite control, unless the product bears directions for use of a maximum 0.5% active ingredient chlorpyrifos end-use dilution.

(b) Post-construction termite control, except for spot and local termite treatment, provided the label of the product states that the product may not be used for spot and local treatment after December 31, 2002.

(c) Indoor residential except for containerized baits in CRP.

(d) Indoor non-residential except for containerized baits in CRP and products with formulations other than EC that bear labeling solely for one or more of the following uses: Warehouses, ship holds, railroad boxcars, industrial plants, manufacturing plants, food processing plants, or processed wood products treated during the manufacturing process at the manufacturing site or at the mill.

(e) Outdoor residential except for products bearing labeling solely for one or more of the following public health uses: Individual fire ant mound treatment by licensed applicators or mosquito control by public health agencies.

(f) Outdoor non-residential, non-agricultural except for products that bear labeling solely for one or more of the following uses: Golf courses, road medians, and industrial plant sites, provided the maximum label application rate does not exceed 1 lb a.i./per acre; mosquito control for public health purposes by public health agencies; individual fire ant mound treatment for public health purposes by licensed applicators; and fence posts, utility poles, railroad ties, landscape timbers, logs, pallets, wooden containers, poles, posts, processed wood products, manhole covers, and underground utility cable and conduits.

3. Retail and other distribution or sale. The retail sale of existing stocks of products listed in Table 1 or 2 bearing instructions for the prohibited uses set forth above in Units IV.1.ii.a. thru f. will not be lawful under FIFRA after December 31, 2001. Except as otherwise provided in this order, any other distribution or sale (for example, return to the manufacturer for relabeling) is permitted until stocks are exhausted.

4. Final distribution, sale and use date for preconstruction termite control. The distribution, sale or use of any product listed in Table 1 or 2 bearing instructions for pre-construction termiticide use will not be lawful under FIFRA after December 31, 2005, unless, prior to that date, EPA has issued a written determination that such use may continue consistent with the requirements of FIFRA.

5. Use of existing stocks. Except for products bearing those uses identified above in Units IV.1. and IV.4., EPA intends to permit the use of existing stocks of products listed in Table 1 or 2 until such stocks are exhausted, provided such use is in accordance with the existing labeling of that product.

List of Subjects

Environmental protection, Memorandum of Agreement, Pesticides and pests.

Dated: August 29, 2001.
Lois A. Rossi,
Director, Special Review and Reregistration Division, Office of Pesticide Programs.

[FR Doc. 01-22756 Filed 9-11-01; 8:45 am]

BILLING CODE 6560-50-S